DEPARTMENT OF HEALTH AND HUMAN SERVICES

National Institutes of Health

National Institute on Aging; Notice of Closed Meetings

Pursuant to section 10(d) of the Federal Advisory Committee Act, as amended (5 U.S.C. Appendix 2), notice is hereby given of the following meetings.

The meetings will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Institute on Aging Special Emphasis Panel, Aging Heart and Stem Cells.

Date: July 7-8, 2003.

Time: 6 p.m. to 5 p.m.

Agenda: To review and evaluate grant applications.

Place: The Westin at Times Square, 270 West 43rd Street, New York, NY 10036.

Contact Person: James P. Harwood, PhD, Deputy Chief, Scientific Review Office, Gateway Building 2C212, 7201 Wisconsin Avenue, Bethesda, MD 20814. (301) 496-9666. harwoodjmail.nih.gov.

Name of Committee: National Institute on Aging Special Emphasis Panel, Aging Brain Study.

Date: July 7-8, 2003.

Time: 7 p.m. to 5 p.m.

Agenda: To review and evaluate grant applications.

Place: Courtyard Marriott, 866 Third Avenue, New York, NY 10022.

Contact Person: William Cruce, PhD, Scientific Review Administrator, National Institute on Aging, National Institutes of Health, Scientific Review Office, Gateway Building 2C212, 7201 Wisconsin Avenue, Bethesa, MD 20892. 301-402-7704 crucew@nia.nih.gov.

Name of Committee: National Institute on Aging Special Emphasis Panel, Brain Diseases of Aging.

Date: July 8-9, 2003.

Time: 7 p.m. to 5 p.m.

Agenda: To review and evaluate grant applications.

Place: Hotel Drisco, 2901 Pacific Avenue, San Francisco, CA 94115.

Contact Person: Louise L. Hsu, PhD, The Bethesda Gateway Building, 7201 Wisconsin Avenue/Suite 2C212, Bethesda, MD 20892. (301) 496-7705.

Name of Committee: National Institute on Aging Special Emphasis Panel, A Consortium to Study the Genetics of Longevity.

Date: July 22-23, 2003.

Time: 7 p.m. to 8 a.m.

Agenda: To review and evaluate grant applications.

Place: Sir Francis Drake Hotel, 450 Powell Street, San Francisco, CA 94102.

Contact Person: Alicja L. Markowska, PhD, DSC, Scientific Review Office, Scientific Review Office, National Institute on Aging, Gateway Building, Suite 2C212, 7201 Wisconsin Avenue, Bethesda, MD 20814. 301-402-7703. markowsa@nia.nih.gov.

Name of Committee: National Institute on Aging Special Emphasis Panel, Molecular Biology of Aging.

Date: August 6, 2003.

Time: 10 a.m. to 1 p.m.

Agenda: To review and evaluate grant applications.

Place: National Institute on Aging, Gateway Building, 7201 Wisconsin Ave, 2C212, Bethesda, MD 20814. (Telephone conference call.)

Contact Person: James P. Harwood, PhD, Deputy Chief, Scientific Review Office, Gateway Building 2C212, 7201 Wisconsin Avenue, Bethesda, MD 20814. (301) 496-966. harwoodj@mail.nih.gov.

(Catalogue of Federal Domestic Assistance program No.s 93.866, Aging Research, National Institutes of Health, HHS)
Dated: June 5, 2003.
LaVerne Y. Stringfield,
Director, Office of Federal Advisory Committee Policy.

[FR Doc. 03-14660 Filed 6-10-03; 8:45 am]

BILLING CODE 4140-01-M